DEPARTMENT OF TRANSPORTATION

Federal Highway Administration

Notice of Final Federal Agency Actions on the Interstate 395 Express Lanes Northern Extension Study in the City of Alexandria, Arlington County, and Fairfax County, Virginia

AGENCY: Federal Highway Administration (FHWA), DOT.

ACTION: Notice of Limitation on Claims for Judicial Review of Actions by FHWA.

SUMMARY: This notice announces actions taken by the FHWA that are final. The actions relate to the conversion of two existing High Occupancy Vehicle (HOV) lanes within the existing median of Interstate 395 (I-395) to three High Occupancy Toll (HOT) lanes from the current I-395 HOT lanes terminus at Turkeycock Run to Eads Street near the Pentagon. Those actions grant licenses, permits, and approvals for the project.

DATES: By this notice, the FHWA is advising the public of final agency actions subject to 23 U.S.C. 139(l)(1). A claim seeking judicial review of the Federal agency actions on the project will be barred unless the claim is filed on or before November 17, 2017. If the Federal law that authorizes judicial review of a claim provides a time period of less than 150 days for filing such claim, then that shorter time period still applies.

FOR FURTHER INFORMATION CONTACT: For FHWA: Mr. John Simkins, Planning and Environment Team Leader, FHWA Virginia Division, 400 North 8th Street, Richmond, Virginia 23219; telephone: (804) 775-3347; email: John.Simkins@dot.gov. The FHWA Virginia Division Office's normal business hours are 8:00 a.m. to 4:30 p.m. (Eastern Time). For the Virginia Department of Transportation: Amanda Baxter, 4975 Alliance Drive, Fairfax, Virginia 22030; email: Amanda.Baxter@VDOT.Virginia.gov; telephone: (703) 259-1996. The Virginia Department of Transportation's normal business hours are 7:00 a.m. to 4:00 p.m.

SUPPLEMENTARY INFORMATION: Notice is hereby given that FHWA has taken final agency actions subject to 23 U.S.C. 139(l)(1) by issuing licenses, permits, and approvals for the following project in the State of Virginia: Interstate 395 Express Lanes Northern Extension study in the City of Alexandria, Arlington County, and Fairfax County. The project involves the conversion of two existing High Occupancy Vehicle (HOV) lanes within the existing median of I-395 to three High Occupancy Toll (HOT) lanes from the current I-395 HOT lanes terminus at Turkeycock Run to Eads Street near the Pentagon. The actions taken by FHWA, and the laws under which such actions were taken, are described in the Environmental Assessment (EA), the Request for the Finding of No Significant Impact (FONSI) that included a Revised EA, and the FONSI. The EA was signed on September 8, 2016. The FONSI was signed on February 28, 2017. The EA, Request for the FONSI, and FONSI can be viewed on the project's internet site at http://www.virginiadot.org/projects/northernvirginia/395_express.asp. These documents and other project records are also available by contacting FHWA or the Virginia Department of Transportation at the phone numbers and addresses listed above.

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303; 23 U.S.C. 138].

4. Wildlife: Endangered Species Act [16 U.S.C. 1531-1544 and Section 1536].

5. Historic and Cultural Resources: Section 106 of the National Historic Preservation Act of 1966, as amended [54 U.S.C. 306108].

6. Social and Economic: Farmland Protection Policy Act [7 U.S.C. 4201-4209].

(Catalog of Federal Domestic Assistance Program Number 20.205, Highway Planning and Construction. The regulations implementing Executive Order 12372 regarding intergovernmental consultation on Federal programs and activities apply to this program.)

Authority: 23 U.S.C. 139(l)(1).

Issued on: June 8, 2017.
John Simkins,
Planning and Environment Team Leader.

[FR Doc. 2017-12629 Filed 6-19-17; 8:45 am]

BILLING CODE 4910-RY-P